FEDERAL COMMUNICATIONS COMMISSION

47 CFR Part 73

[MB Docket No. 21-221; RM-11908; DA 21-600; FR ID 29165]

Television Broadcasting Services Las Vegas, Nevada

AGENCY: Federal Communications Commission.

ACTION: Proposed rule.

SUMMARY: The Commission has before it a petition for rulemaking filed by Scripps Broadcasting Holdings, LLC (Petitioner), the licensee of KTNV-TV (ABC), channel 13, Las Vegas, Nevada. The Petitioner requests the substitution of channel 26 for channel 13 at Las Vegas in the DTV Table of Allotments.

DATES: Comments must be filed on or before July 16, 2021 and reply comments on or before August 2, 2021.

ADDRESSES: Federal Communications Commission, Office of the Secretary, 45 L Street NE, Washington, DC 20554. In addition to filing comments with the FCC, interested parties should serve counsel for the Petitioner as follows: Daniel Kirkpatrick, Esq., Baker & Hostetler, LLP, 1050 Connecticut Avenue NW, Washington, DC 20036.

FOR FURTHER INFORMATION CONTACT: Joyce Bernstein, Media Bureau, at (202) 418-1647; or Joyce Bernstein, Media Bureau, at Joyce.Bernstein@fcc.gov.

SUPPLEMENTARY INFORMATION: In support of its channel substitution request, the Petitioner states that the Commission has recognized that VHF channels have certain characteristics that pose challenges for their use in providing digital television service, including propagation characteristics that allow undesired signals and noise to be receivable at relatively far distances and nearby electrical devices to cause interference. According to the Petitioner, it has received many complaints from viewers unable to receive a reliable signal on channel 13. In addition, the Petitioner demonstrated that its proposal would result in a loss area of 460.9 square kilometers, containing only five people who will continue to receive service from two other full power television stations.

This is a synopsis of the Commission's Notice of Proposed Rulemaking, MB Docket No. 21-221; RM-11908; DA 21-600, adopted May 21, 2021, and released May 21, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
India Malcolm,
Assistant Bureau Chief for Management.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

§ 73.622 [Amended]

2. In § 73.622(i), amend the table Post-Transition Table of DTV Allotments under Nevada by revising the entry for “Las Vegas” to read as follows:

§ 73.622 Digital television table of allotments.

* * * * *

(i) * * *

Community | Channel No.
* * * * *
NEVADA
* * * * *
Las Vegas | 2, 7, * 11, 16, 22, 26, 29.
* * * * *

[FR Doc. 2021-12051 Filed 6-15-21; 8:45 am]

BILLING CODE 6712-01-P